ENVIRONMENTAL PROTECTION AGENCY

40 CFR Part 52

[EPA-R06-OAR-2025-0015; FRL-12949-02-R6]

Air Plan Approval; Arkansas; Codification of the State Implementation Plan

AGENCY: Environmental Protection Agency (EPA).

ACTION: Final rule.

SUMMARY: Pursuant to the Federal Clean Air Act (CAA or the Act), the Environmental Protection Agency (EPA) is approving revisions to the Arkansas State Implementation Plan (SIP) submitted by the Arkansas Department of Energy and Environment (ADEE) to the EPA on February 4, 2025. The revisions address the codification of the Arkansas Pollution Control and Ecology Commission (APC & EC) Rule 19 and Regulations 9, 26, and 31 into the Code of Arkansas Rules (CAR). The revisions are non-substantive formatting edits and do not relax or introduce new rules to the approved SIP.

DATES: This rule is effective on February 25, 2026.

ADDRESSES: The EPA has established a docket for this action under Docket ID No. EPA-R06-OAR-2025-0015. All documents in the docket are listed on the https://www.regulations.gov website. Although listed in the index, some information is not publicly available, e.g., Confidential Business Information or other information whose disclosure is restricted by statute. Certain other material, such as copyrighted material, is not placed on the internet. Publicly available docket materials are available electronically through https://www.regulations.gov.

FOR FURTHER INFORMATION CONTACT: Alethea Tsui-Bowen, EPA Region 6 Office, Infrastructure and Ozone Section, 214-665-7555, tsui-bowen.alethea@epa.gov. Please call or email the contact listed above if you need alternative access to material indexed but not provided in the docket.

SUPPLEMENTARY INFORMATION: Throughout this document “we,” “us,” and “our” means the EPA.

I. Background

The background for this action is discussed in detail in our August 28, 2025, proposal (90 FR 41930) and the accompanying Technical Support Document (TSD), available in the docket for this rule. In our August 2025 proposal we proposed to approve the revisions to the Arkansas State Implementation Plan (SIP) submitted by ADEE to the EPA on February 4, 2025, for the codification of the APC & EC Rule 19 and Regulations 9, 26, and 31 into the CAR.

The comment period on our August 2025 proposal closed on September 29, 2025. We received one anonymous comment on our proposal. The submitted comment is available for review in the docket for this rulemaking. Our response to the comment is provided in Section II of this rulemaking.

II. Response to Comments

Comment: The commenter asks that the EPA should not approve the Arkansas SIP and should require the state to adopt the more stringent emissions control such as those adopted in the state of California.

Response: The EPA disagrees with the commenter. The EPA must adhere to its obligation under section 110(k) to approve, disapprove, conditionally approve, in whole or in part, the codification of SIP in the state submittal at issue. The requirement of adopting more stringent emissions controls is not relevant nor relates to the subject matter raised in this rulemaking action and is thus outside the scope for this current action for EPA to address.

III. Final Action

We are approving the revisions to Arkansas SIP submitted to EPA on February 4, 2025. The revisions codify the corresponding rules and regulations in the Arkansas SIP. We are approving this SIP submission in accordance with the requirements of section 110 of the Act and EPA's regulations.

IV. Incorporation by Reference

In this rule, the EPA is finalizing regulatory text that includes incorporation by reference. In accordance with requirements of 1 CFR 51.5, the EPA is finalizing the incorporation by reference the revisions to the Arkansas regulations as described in Section III of this preamble, Final Action. The EPA has made, and will continue to make, these materials generally available through www.regulations.gov (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by March 27, 2026. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Particulate matter, Reporting and recordkeeping requirements, Sulfur oxides, Volatile organic compounds.

Dated: January 14, 2026.
Walter Mason,
Regional Administrator, Region 6.

For the reasons stated in the preamble, the Environmental Protection Agency amends 40 CFR part 52 as follows:

PART 52—APPROVAL AND PROMULGATION OF IMPLEMENTATION PLANS

1. The authority citation for part 52 continues to read as follows:

Authority: 42 U.S.C. 7401 et seq.

Subpart E—Arkansas

2. Amend § 52.170 by revising the table titled “EPA-Approved Regulations in the Arkansas SIP” in paragraph (c) to read as follows:

§ 52.170 Identification of plan.

* * * * *

(c) * * *

EPA-Approved Regulations in the Arkansas SIP
State citation | Title/subject | State submittal/ effective date | EPA approval date | Explanation
Title 8. Environmental Law
Chapter I. Arkansas Pollution Control and Ecology Commission, Department of Energy and Environment
Subchapter B. Administration
Part 12. Permit Fee Rules
Subpart 1. General Provisions
8 CAR Section 12-101 | Title | 2/4/2025 | 1/26/2026, 91 FR [INSERT FEDERAL REGISTER PAGE WHERE THE DOCUMENT BEGINS]
8 CAR Section 12-102 | Purpose | 2/4/2025 | 1/26/2026, 91 FR [INSERT FEDERAL REGISTER PAGE WHERE THE DOCUMENT BEGINS]
8 CAR Section 12-103 | Definitions | 2/4/2025 | 1/26/2026, 91 FR [INSERT FEDERAL REGISTER PAGE WHERE THE DOCUMENT BEGINS] | The Arkansas SIP does NOT include the definitions of “Category”, “Certificate”, “Confined Animal Operation”, “Discretionary Major Facility”, “Evaluation”, “Laboratory”, “Major Municipal Facility”, “Non-Municipal Major Facility”, “Parameter”, and “Program”.
8 CAR Section 12-104 | Applicability | 2/4/2025 | 1/26/2026, 91 FR [INSERT FEDERAL REGISTER PAGE WHERE THE DOCUMENT BEGINS]
8 CAR Section 12-105 | Severability | 2/4/2025 | 1/26/2026, 91 FR [INSERT FEDERAL REGISTER PAGE WHERE THE DOCUMENT BEGINS]
Subpart 2. Permit Fee Payment
8 CAR Section 12-201 | Permit fee payment | 2/4/2025 | 1/26/2026, 91 FR [INSERT FEDERAL REGISTER PAGE WHERE THE DOCUMENT BEGINS]
8 CAR Section 12-202 | Refunds | 2/4/2025 | 1/26/2026, 91 FR [INSERT FEDERAL REGISTER PAGE WHERE THE DOCUMENT BEGINS]
Subpart 4. Air Permit Fees
8 CAR Section 12-401 | Applicability | 2/4/2025 | 1/26/2026, 91 FR [INSERT FEDERAL REGISTER PAGE WHERE THE DOCUMENT BEGINS]
8 CAR Section 12-402 | Terms used in fee formulas | 2/4/2025 | 1/26/2026, 91 FR [INSERT FEDERAL REGISTER PAGE WHERE THE DOCUMENT BEGINS]
8 CAR Section 12-403 | Initial fees | 2/4/2025 | 1/26/2026, 91 FR [INSERT FEDERAL REGISTER PAGE WHERE THE DOCUMENT BEGINS]
8 CAR Section 12-404 | Annual fees | 2/4/2025 | 1/26/2026, 91 FR [INSERT FEDERAL REGISTER PAGE WHERE THE DOCUMENT BEGINS]
8 CAR Section 12-405 | Modification fees | 2/4/2025 | 1/26/2026, 91 FR [INSERT FEDERAL REGISTER PAGE WHERE THE DOCUMENT BEGINS]
8 CAR Section 12-406 | Administrative permit amendments and renewal permits | 2/4/2025 | 1/26/2026, 91 FR [INSERT FEDERAL REGISTER PAGE WHERE THE DOCUMENT BEGINS]
8 CAR Section 12-407 | General permits | 2/4/2025 | 1/26/2026, 91 FR [INSERT FEDERAL REGISTER PAGE WHERE THE DOCUMENT BEGINS]
8 CAR Section 12-408 | Permit fees for certain small business subject to part 70 permitting requirements | 2/4/2025 | 1/26/2026, 91 FR [INSERT FEDERAL REGISTER PAGE WHERE THE DOCUMENT BEGINS]
Subpart 8. Administrative Procedures
8 CAR Section 12-801 | Division review of fees | 2/4/2025 | 1/26/2026, 91 FR [INSERT FEDERAL REGISTER PAGE WHERE THE DOCUMENT BEGINS]
8 CAR Section 12-802 | Appeals | 2/4/2025 | 1/26/2026, 91 FR [INSERT FEDERAL REGISTER PAGE WHERE THE DOCUMENT BEGINS]
8 CAR Section 12-803 | Effective date | 2/4/2025 | 1/26/2026, 91 FR [INSERT FEDERAL REGISTER PAGE WHERE THE DOCUMENT BEGINS]
Subchapter D. Air Quality
Part 41: Rules of the Arkansas Plan of Implementation for Air Pollution Control
Subpart 1: Title, Intent and Purpose Definitions
8 CAR Section 41-101 | Title | 2/4/2025 | 1/26/2026, 91 FR [INSERT FEDERAL REGISTER PAGE WHERE THE DOCUMENT BEGINS]
8 CAR Section 41-102 | Applicability | 2/4/2025 | 1/26/2026, 91 FR [INSERT FEDERAL REGISTER PAGE WHERE THE DOCUMENT BEGINS]
8 CAR Section 41-103 | Intent and construction | 2/4/2025 | 1/26/2026, 91 FR [INSERT FEDERAL REGISTER PAGE WHERE THE DOCUMENT BEGINS]
8 CAR Section 41-104 | Severability | 2/4/2025 | 1/26/2026, 91 FR [INSERT FEDERAL REGISTER PAGE WHERE THE DOCUMENT BEGINS]
8 CAR Section 41-105 | Incorporation by reference | 2/4/2025 | 1/26/2026, 91 FR [INSERT FEDERAL REGISTER PAGE WHERE THE DOCUMENT BEGINS]
8 CAR Section 41-106 | Definitions | 2/4/2025 | 1/26/2026, 91 FR [INSERT FEDERAL REGISTER PAGE WHERE THE DOCUMENT BEGINS]
Subpart 2. Protection of the National Ambient Air Quality Standards
8 CAR Section 41-201 | Purpose | 2/4/2025 | 1/26/2026, 91 FR [INSERT FEDERAL REGISTER PAGE WHERE THE DOCUMENT BEGINS]
8 CAR Section 41-202 | Division responsibilities | 2/4/2025 | 1/26/2026, 91 FR [INSERT FEDERAL REGISTER PAGE WHERE THE DOCUMENT BEGINS]
8 CAR Section 41-203 | Regulated sources responsibilities | 2/4/2025 | 1/26/2026, 91 FR [INSERT FEDERAL REGISTER PAGE WHERE THE DOCUMENT BEGINS]
8 CAR Section 41-204 | Delegated federal programs | 2/4/2025 | 1/26/2026, 91 FR [INSERT FEDERAL REGISTER PAGE WHERE THE DOCUMENT BEGINS]
Subpart 3. Minor Source Review
8 CAR Section 41-301 | General applicability | 2/4/2025 | 1/26/2026, 91 FR [INSERT FEDERAL REGISTER PAGE WHERE THE DOCUMENT BEGINS]
8 CAR Section 41-302 | Approval criteria | 2/4/2025 | 1/26/2026, 91 FR [INSERT FEDERAL REGISTER PAGE WHERE THE DOCUMENT BEGINS]
8 CAR Section 41-303 | Owner/operator's responsibilities | 2/4/2025 | 1/26/2026, 91 FR [INSERT FEDERAL REGISTER PAGE WHERE THE DOCUMENT BEGINS]
8 CAR Section 41-304 | Required information | 2/4/2025 | 1/26/2026, 91 FR [INSERT FEDERAL REGISTER PAGE WHERE THE DOCUMENT BEGINS]
8 CAR Section 41-305 | Action on application | 2/4/2025 | 1/26/2026, 91 FR [INSERT FEDERAL REGISTER PAGE WHERE THE DOCUMENT BEGINS]
8 CAR Section 41-306 | Public participation | 2/4/2025 | 1/26/2026, 91 FR [INSERT FEDERAL REGISTER PAGE WHERE THE DOCUMENT BEGINS]
8 CAR Section 41-307 | Permit amendments | 2/4/2025 | 1/26/2026, 91 FR [INSERT FEDERAL REGISTER PAGE WHERE THE DOCUMENT BEGINS]
8 CAR Section 41-308 | Exemption from permitting | 2/4/2025 | 1/26/2026, 91 FR [INSERT FEDERAL REGISTER PAGE WHERE THE DOCUMENT BEGINS]
8 CAR Section 41-309 | [Reserved] | 2/4/2025 | 1/26/2026, 91 FR [INSERT FEDERAL REGISTER PAGE WHERE THE DOCUMENT BEGINS]
8 CAR Section 41-310 | Permit revocation and cancellation | 2/4/2025 | 1/26/2026, 91 FR [INSERT FEDERAL REGISTER PAGE WHERE THE DOCUMENT BEGINS]
8 CAR Section 41-311 | General permits | 2/4/2025 | 1/26/2026, 91 FR [INSERT FEDERAL REGISTER PAGE WHERE THE DOCUMENT BEGINS]
8 CAR Section 41-312 | Dispersion modeling | 2/4/2025 | 1/26/2026, 91 FR [INSERT FEDERAL REGISTER PAGE WHERE THE DOCUMENT BEGINS]
8 CAR Section 41-313 | Confidentiality | 2/4/2025 | 1/26/2026, 91 FR [INSERT FEDERAL REGISTER PAGE WHERE THE DOCUMENT BEGINS]
8 CAR Section 41-314 | Operational flexibility—Applicant's duty to apply for alternative scenarios | 2/4/2025 | 1/26/2026, 91 FR [INSERT FEDERAL REGISTER PAGE WHERE THE DOCUMENT BEGINS]
8 CAR Section 41-315 | Changes resulting in no emissions increases | 2/4/2025 | 1/26/2026, 91 FR [INSERT FEDERAL REGISTER PAGE WHERE THE DOCUMENT BEGINS]
8 CAR Section 41-316 | Permit flexibility | 2/4/2025 | 1/26/2026, 91 FR [INSERT FEDERAL REGISTER PAGE WHERE THE DOCUMENT BEGINS]
8 CAR Section 41-317 | Registration | 2/4/2025 | 1/26/2026, 91 FR [INSERT FEDERAL REGISTER PAGE WHERE THE DOCUMENT BEGINS]
Subpart 4. General Emissions Limitations Applicable to Equipment
8 CAR Section 41-401 | Purpose | 2/4/2025 | 1/26/2026, 91 FR [INSERT FEDERAL REGISTER PAGE WHERE THE DOCUMENT BEGINS]
8 CAR Section 41-402 | General rules | 2/4/2025 | 1/26/2026, 91 FR [INSERT FEDERAL REGISTER PAGE WHERE THE DOCUMENT BEGINS]
8 CAR Section 41-403 | Visible emission rules | 2/4/2025 | 1/26/2026, 91 FR [INSERT FEDERAL REGISTER PAGE WHERE THE DOCUMENT BEGINS]
8 CAR Section 41-404 | Stack height/dispersion rules | 2/4/2025 | 1/26/2026, 91 FR [INSERT FEDERAL REGISTER PAGE WHERE THE DOCUMENT BEGINS]
8 CAR Section 41-405 | Revised emissions limitation | 2/4/2025 | 1/26/2026, 91 FR [INSERT FEDERAL REGISTER PAGE WHERE THE DOCUMENT BEGINS]
Subpart 5. Upset and Emergency Conditions
8 CAR Section 41-501 | Upset conditions | 2/4/2025 | 1/26/2026, 91 FR [INSERT FEDERAL REGISTER PAGE WHERE THE DOCUMENT BEGINS]
Subpart 6. Sampling, Monitoring, and Reporting Requirements
8 CAR Section 41-601 | Purpose | 2/4/2025 | 1/26/2026, 91 FR [INSERT FEDERAL REGISTER PAGE WHERE THE DOCUMENT BEGINS]
8 CAR Section 41-602 | Air emissions sampling | 2/4/2025 | 1/26/2026, 91 FR [INSERT FEDERAL REGISTER PAGE WHERE THE DOCUMENT BEGINS]
8 CAR Section 41-603 | Continuous emissions monitoring | 2/4/2025 | 1/26/2026, 91 FR [INSERT FEDERAL REGISTER PAGE WHERE THE DOCUMENT BEGINS]
8 CAR Section 41-604 | Notice of completion | 2/4/2025 | 1/26/2026, 91 FR [INSERT FEDERAL REGISTER PAGE WHERE THE DOCUMENT BEGINS]
8 CAR Section 41-605 | Recordkeeping and reporting requirements | 2/4/2025 | 1/26/2026, 91 FR [INSERT FEDERAL REGISTER PAGE WHERE THE DOCUMENT BEGINS] |
8 CAR Section 41-606 | Public availability of emissions data | 2/4/2025 | 1/26/2026, 91 FR [INSERT FEDERAL REGISTER PAGE WHERE THE DOCUMENT BEGINS]
Subpart 8. Prevention of Significant Deterioration Rules of the Arkansas Plan of Implementation for Air Pollution Control
8 CAR Section 41-801 | Title | 2/4/2025 | 1/26/2026, 91 FR [INSERT FEDERAL REGISTER PAGE WHERE THE DOCUMENT BEGINS]
8 CAR Section 41-802 | Purposes | 2/4/2025 | 1/26/2026, 91 FR [INSERT FEDERAL REGISTER PAGE WHERE THE DOCUMENT BEGINS]
8 CAR Section 41-803 | Definitions | 2/4/2025 | 1/26/2026, 91 FR [INSERT FEDERAL REGISTER PAGE WHERE THE DOCUMENT BEGINS]
8 CAR Section 41-804 | Adoption of rules | 2/4/2025 | 1/26/2026, 91 FR [INSERT FEDERAL REGISTER PAGE WHERE THE DOCUMENT BEGINS]
Subpart 9. Rules for the Control of Volatile Organic Compounds in Pulaski County
8 CAR Section 41-901 | Title | 2/4/2025 | 1/26/2026, 91 FR [INSERT FEDERAL REGISTER PAGE WHERE THE DOCUMENT BEGINS]
8 CAR Section 41-902 | Purpose | 2/4/2025 | 1/26/2026, 91 FR [INSERT FEDERAL REGISTER PAGE WHERE THE DOCUMENT BEGINS]
8 CAR Section 41-903 | Definitions | 2/4/2025 | 1/26/2026, 91 FR [INSERT FEDERAL REGISTER PAGE WHERE THE DOCUMENT BEGINS]
8 CAR Section 41-904 | [Reserved] | 2/4/2025 | 1/26/2026, 91 FR [INSERT FEDERAL REGISTER PAGE WHERE THE DOCUMENT BEGINS]
8 CAR Section 41-905 | Provisions for specific processes | 2/4/2025 | 1/26/2026, 91 FR [INSERT FEDERAL REGISTER PAGE WHERE THE DOCUMENT BEGINS]
Subpart 10. Major Source Permitting Procedures
8 CAR Section 41-1001 | Permitting procedure for part 70 source | 2/4/2025 | 1/26/2026, 91 FR [INSERT FEDERAL REGISTER PAGE WHERE THE DOCUMENT BEGINS]
Subpart 12. Stage 1 Vapor Recovery
8 CAR Section 41-1201 | Purpose | 2/4/2025 | 1/26/2026, 91 FR [INSERT FEDERAL REGISTER PAGE WHERE THE DOCUMENT BEGINS]
8 CAR Section 41-1202 | Applicability | 2/4/2025 | 1/26/2026, 91 FR [INSERT FEDERAL REGISTER PAGE WHERE THE DOCUMENT BEGINS]
8 CAR Section 41-1203 | Definitions | 2/4/2025 | 1/26/2026, 91 FR [INSERT FEDERAL REGISTER PAGE WHERE THE DOCUMENT BEGINS]
8 CAR Section 41-1204 | Exemptions | 2/4/2025 | 1/26/2026, 91 FR [INSERT FEDERAL REGISTER PAGE WHERE THE DOCUMENT BEGINS]
8 CAR Section 41-1205 | Prohibited activities | 2/4/2025 | 1/26/2026, 91 FR [INSERT FEDERAL REGISTER PAGE WHERE THE DOCUMENT BEGINS]
8 CAR Section 41-1206 | Recordkeeping | 2/4/2025 | 1/26/2026, 91 FR [INSERT FEDERAL REGISTER PAGE WHERE THE DOCUMENT BEGINS]
8 CAR Section 41-1207 | Inspections | 2/4/2025 | 1/26/2026, 91 FR [INSERT FEDERAL REGISTER PAGE WHERE THE DOCUMENT BEGINS]
8 CAR Section 41-1208 | Vapor recovery systems | 2/4/2025 | 1/26/2026, 91 FR [INSERT FEDERAL REGISTER PAGE WHERE THE DOCUMENT BEGINS]
8 CAR Section 41-1209 | Gasoline delivery vessels | 2/4/2025 | 1/26/2026, 91 FR [INSERT FEDERAL REGISTER PAGE WHERE THE DOCUMENT BEGINS]
8 CAR Section 41-1210 | Owner/operator responsibility | 2/4/2025 | 1/26/2026, 91 FR [INSERT FEDERAL REGISTER PAGE WHERE THE DOCUMENT BEGINS]
8 CAR Section 41-1211 | Test methods | 2/4/2025 | 1/26/2026, 91 FR [INSERT FEDERAL REGISTER PAGE WHERE THE DOCUMENT BEGINS]
8 CAR Section 41-1212 | Effective date | 2/4/2025 | 1/26/2026, 91 FR [INSERT FEDERAL REGISTER PAGE WHERE THE DOCUMENT BEGINS]
Subpart 13. [Reserved]
Subpart 14. Best Available Retrofit Technology
CAR Section 41-1401 | Purpose | 2/4/2025 | 1/26/2026, 91 FR [INSERT FEDERAL REGISTER PAGE WHERE THE DOCUMENT BEGINS]
CAR Section 41-1402 | Definitions | 2/4/2025 | 1/26/2026, 91 FR [INSERT FEDERAL REGISTER PAGE WHERE THE DOCUMENT BEGINS]
CAR Section 41-1403 | [Reserved] | 2/4/2025 | 1/26/2026, 91 FR [INSERT FEDERAL REGISTER PAGE WHERE THE DOCUMENT BEGINS]
CAR Section 41-1404 | [Reserved] | 2/4/2025 | 1/26/2026, 91 FR [INSERT FEDERAL REGISTER PAGE WHERE THE DOCUMENT BEGINS]
CAR Section 41-1405 | Best available retrofit technology requirements | 2/4/2025 | 1/26/2026, 91 FR [INSERT FEDERAL REGISTER PAGE WHERE THE DOCUMENT BEGINS]
CAR Section 41-1406 | Compliance provisions | 2/4/2025 | 1/26/2026, 91 FR [INSERT FEDERAL REGISTER PAGE WHERE THE DOCUMENT BEGINS]
Subpart 15. [Reserved]
Subpart 17. Effective Date
8 CAR Section 41-1701 | Effective Date | 2/4/2025 | 1/26/2026, 91 FR [INSERT FEDERAL REGISTER PAGE WHERE THE DOCUMENT BEGINS]
Appendix A: Insignificant Activities List
8 CAR Section 41, Appendix A | Insignificant Activities List | 2/4/2025 | 1/26/2026, 91 FR [INSERT FEDERAL REGISTER PAGE WHERE THE DOCUMENT BEGINS]
Appendix B: National Ambient Air Quality Standards List
8 CAR Section 41, Appendix B | National Ambient Air Quality Standards List | 2/4/2025 | 1/26/2026, 91 FR [INSERT FEDERAL REGISTER PAGE WHERE THE DOCUMENT BEGINS]
Part 42. Rules of the Arkansas Operating Air Permit Program
Subpart 2. Requirement for a Permit—Applicability
8 CAR Section 42-201 | Requirement for a permit | 2/4/2025 | 1/26/2026, 91 FR [INSERT FEDERAL REGISTER PAGE WHERE THE DOCUMENT BEGINS]
8 CAR Section 42-202 | Sources subject to permitting | 2/4/2025 | 1/26/2026, 91 FR [INSERT FEDERAL REGISTER PAGE WHERE THE DOCUMENT BEGINS]
Subpart 3. Applications for Permits
8 CAR Section 42-301 | Duty to apply | 2/4/2025 | 1/26/2026, 91 FR [INSERT FEDERAL REGISTER PAGE WHERE THE DOCUMENT BEGINS]
8 CAR Section 42-302 | Standard application form and required information | 2/4/2025 | 1/26/2026, 91 FR [INSERT FEDERAL REGISTER PAGE WHERE THE DOCUMENT BEGINS]
8 CAR Section 42-307 | Complete application | 2/4/2025 | 1/26/2026, 91 FR [INSERT FEDERAL REGISTER PAGE WHERE THE DOCUMENT BEGINS]
8 CAR Section 42-309 | Applicant's duty to supplement or correct application | 2/4/2025 | 1/26/2026, 91 FR [INSERT FEDERAL REGISTER PAGE WHERE THE DOCUMENT BEGINS]
8 CAR Section 42-310 | Certification by responsible official | 2/4/2025 | 1/26/2026, 91 FR [INSERT FEDERAL REGISTER PAGE WHERE THE DOCUMENT BEGINS]
Subpart 4. Action on Applications
8 CAR Section 42-401 | Action on part 70 permit applications | 2/4/2025 | 1/26/2026, 91 FR [INSERT FEDERAL REGISTER PAGE WHERE THE DOCUMENT BEGINS]
8 CAR Section 42-402 | Final action on permit application | 2/4/2025 | 1/26/2026, 91 FR [INSERT FEDERAL REGISTER PAGE WHERE THE DOCUMENT BEGINS]
Subpart 5. Permit Review by the Public, Affected States, and the Environmental Protection Agency
8 CAR Section 42-501 | Applicability | 2/4/2025 | 1/26/2026, 91 FR [INSERT FEDERAL REGISTER PAGE WHERE THE DOCUMENT BEGINS]
8 CAR Section 42-502 | Public participation | 2/4/2025 | 1/26/2026, 91 FR [INSERT FEDERAL REGISTER PAGE WHERE THE DOCUMENT BEGINS]
8 CAR Section 42-503 | Transmission of permit information to the Administrator of the Environmental Protection Agency | 2/4/2025 | 1/26/2026, 91 FR [INSERT FEDERAL REGISTER PAGE WHERE THE DOCUMENT BEGINS]
8 CAR Section 42-504 | Review of draft permit by affected states | 2/4/2025 | 1/26/2026, 91 FR [INSERT FEDERAL REGISTER PAGE WHERE THE DOCUMENT BEGINS]
Part 43. Nonattainment New Source Review Requirements
Subpart 1. General Provisions
8 CAR Section 43-101 | Title | 2/4/2025 | 1/26/2026, 91 FR [INSERT FEDERAL REGISTER PAGE WHERE THE DOCUMENT BEGINS]
8 CAR Section 43-102 | Applicability | 2/4/2025 | 1/26/2026, 91 FR [INSERT FEDERAL REGISTER PAGE WHERE THE DOCUMENT BEGINS]
8 CAR Section 43-103 | Severability | 2/4/2025 | 1/26/2026, 91 FR [INSERT FEDERAL REGISTER PAGE WHERE THE DOCUMENT BEGINS]
8 CAR Section 43-104 | Definitions | 2/4/2025 | 1/26/2026, 91 FR [INSERT FEDERAL REGISTER PAGE WHERE THE DOCUMENT BEGINS]
Subpart 2. Preconstruction Review
8 CAR Section 43-201 | Requirement for a permit | 2/4/2025 | 1/26/2026, 91 FR [INSERT FEDERAL REGISTER PAGE WHERE THE DOCUMENT BEGINS]
8 CAR Section 43-202 | Required information | 2/4/2025 | 1/26/2026, 91 FR [INSERT FEDERAL REGISTER PAGE WHERE THE DOCUMENT BEGINS]
8 CAR Section 43-203 | Approval criteria | 2/4/2025 | 1/26/2026, 91 FR [INSERT FEDERAL REGISTER PAGE WHERE THE DOCUMENT BEGINS]
8 CAR Section 43-204 | Offsets | 2/4/2025 | 1/26/2026, 91 FR [INSERT FEDERAL REGISTER PAGE WHERE THE DOCUMENT BEGINS]
8 CAR Section 43-205 | Zones targeted for economic development | 2/4/2025 | 1/26/2026, 91 FR [INSERT FEDERAL REGISTER PAGE WHERE THE DOCUMENT BEGINS]
8 CAR Section 43-206 | Control technology information | 2/4/2025 | 1/26/2026, 91 FR [INSERT FEDERAL REGISTER PAGE WHERE THE DOCUMENT BEGINS]
8 CAR Section 43-207 | Approval to construct | 2/4/2025 | 1/26/2026, 91 FR [INSERT FEDERAL REGISTER PAGE WHERE THE DOCUMENT BEGINS]
8 CAR Section 43-208 | Applicability to attainment or unclassifiable areas | 2/4/2025 | 1/26/2026, 91 FR [INSERT FEDERAL REGISTER PAGE WHERE THE DOCUMENT BEGINS]
8 CAR Section 43-209 | Applicability of other rules | 2/4/2025 | 1/26/2026, 91 FR [INSERT FEDERAL REGISTER PAGE WHERE THE DOCUMENT BEGINS]
Subpart 3. Applicability Tests
8 CAR Section 43-301 | Actual-to-projected-actual applicability test | 2/4/2025 | 1/26/2026, 91 FR [INSERT FEDERAL REGISTER PAGE WHERE THE DOCUMENT BEGINS]
8 CAR Section 43-302 | Actual-to-potential test | 2/4/2025 | 1/26/2026, 91 FR [INSERT FEDERAL REGISTER PAGE WHERE THE DOCUMENT BEGINS]
8 CAR Section 43-303 | [Reserved] | 2/4/2025 | 1/26/2026, 91 FR [INSERT FEDERAL REGISTER PAGE WHERE THE DOCUMENT BEGINS]
8 CAR Section 43-304 | [Reserved] | 2/4/2025 | 1/26/2026, 91 FR [INSERT FEDERAL REGISTER PAGE WHERE THE DOCUMENT BEGINS]
8 CAR Section 43-305 | Emission baseline credits | 2/4/2025 | 1/26/2026, 91 FR [INSERT FEDERAL REGISTER PAGE WHERE THE DOCUMENT BEGINS]
8 CAR Section 43-306 | Relaxation of limitations | 2/4/2025 | 1/26/2026, 91 FR [INSERT FEDERAL REGISTER PAGE WHERE THE DOCUMENT BEGINS]
8 CAR Section 43-307 | Modification to existing units | 2/4/2025 | 1/26/2026, 91 FR [INSERT FEDERAL REGISTER PAGE WHERE THE DOCUMENT BEGINS]
8 CAR Section 43-308 | Public availability of information | 2/4/2025 | 1/26/2026, 91 FR [INSERT FEDERAL REGISTER PAGE WHERE THE DOCUMENT BEGINS]
8 CAR Section 43-309 | Applicability to nitrogen oxides | 2/4/2025 | 1/26/2026, 91 FR [INSERT FEDERAL REGISTER PAGE WHERE THE DOCUMENT BEGINS]
8 CAR Section 43-310 | Offset requirements | 2/4/2025 | 1/26/2026, 91 FR [INSERT FEDERAL REGISTER PAGE WHERE THE DOCUMENT BEGINS]
8 CAR Section 43-311 | PM10 precursors | 2/4/2025 | 1/26/2026, 91 FR [INSERT FEDERAL REGISTER PAGE WHERE THE DOCUMENT BEGINS]
Subpart 4. [Reserved]
Subpart 5. [Reserved]
Subpart 6. [Reserved]
Subpart 7. Actual PALs
8 CAR Section 43-701 | Applicability | 2/4/2025 | 1/26/2026, 91 FR [INSERT FEDERAL REGISTER PAGE WHERE THE DOCUMENT BEGINS]
8 CAR Section 43-702 | Definitions | 2/4/2025 | 1/26/2026, 91 FR [INSERT FEDERAL REGISTER PAGE WHERE THE DOCUMENT BEGINS]
8 CAR Section 43-703 | Permit application requirements | 2/4/2025 | 1/26/2026, 91 FR [INSERT FEDERAL REGISTER PAGE WHERE THE DOCUMENT BEGINS]
8 CAR Section 43-704 | General requirements for establishing PALs | 2/4/2025 | 1/26/2026, 91 FR [INSERT FEDERAL REGISTER PAGE WHERE THE DOCUMENT BEGINS]
8 CAR Section 43-705 | Public participation requirement for PALs | 2/4/2025 | 1/26/2026, 91 FR [INSERT FEDERAL REGISTER PAGE WHERE THE DOCUMENT BEGINS]
8 CAR Section 43-706 | Setting the ten-year actuals PAL level | 2/4/2025 | 1/26/2026, 91 FR [INSERT FEDERAL REGISTER PAGE WHERE THE DOCUMENT BEGINS]
8 CAR Section 43-707 | Contents of the PAL permit | 2/4/2025 | 1/26/2026, 91 FR [INSERT FEDERAL REGISTER PAGE WHERE THE DOCUMENT BEGINS]
8 CAR Section 43-708 | Reopening of the PAL permit | 2/4/2025 | 1/26/2026, 91 FR [INSERT FEDERAL REGISTER PAGE WHERE THE DOCUMENT BEGINS]
8 CAR Section 43-709 | PAL effective period | 2/4/2025 | 1/26/2026, 91 FR [INSERT FEDERAL REGISTER PAGE WHERE THE DOCUMENT BEGINS]
8 CAR Section 43-710 | Expiration of a PAL | 2/4/2025 | 1/26/2026, 91 FR [INSERT FEDERAL REGISTER PAGE WHERE THE DOCUMENT BEGINS]
8 CAR Section 43-711 | Renewal of a PAL | 2/4/2025 | 1/26/2026, 91 FR [INSERT FEDERAL REGISTER PAGE WHERE THE DOCUMENT BEGINS]
8 CAR Section 43-712 | Increasing a PAL during the PAL effective period | 2/4/2025 | 1/26/2026, 91 FR [INSERT FEDERAL REGISTER PAGE WHERE THE DOCUMENT BEGINS]
8 CAR Section 43-713 | Monitoring requirements for PALs | 2/4/2025 | 1/26/2026, 91 FR [INSERT FEDERAL REGISTER PAGE WHERE THE DOCUMENT BEGINS]
8 CAR Section 43-714 | Recordkeeping requirements | 2/4/2025 | 1/26/2026, 91 FR [INSERT FEDERAL REGISTER PAGE WHERE THE DOCUMENT BEGINS]
8 CAR Section 43-715 | Reporting and notification requirements | 2/4/2025 | 1/26/2026, 91 FR [INSERT FEDERAL REGISTER PAGE WHERE THE DOCUMENT BEGINS]
8 CAR Section 43-716 | Transition requirements | 2/4/2025 | 1/26/2026, 91 FR [INSERT FEDERAL REGISTER PAGE WHERE THE DOCUMENT BEGINS]
Subpart 8. Effective Date
8 CAR Section 43-801 | Effective date | 2/4/2025 | 1/26/2026, 91 FR [INSERT FEDERAL REGISTER PAGE WHERE THE DOCUMENT BEGINS]

* * * * *

[FR Doc. 2026-01410 Filed 1-23-26; 8:45 am]

BILLING CODE 6560-50-P